NUCLEAR REGULATORY COMMISSION

[Docket No. 50-271; License No. DPR-28; NRC-2010-0191]

Entergy Nuclear Vermont Yankee, LLC and Entergy Nuclear Operations, Inc.; Notice of Issuance of Director's Decision

Notice is hereby given that the Director, Office of Nuclear Reactor Regulation, has issued a Director's Decision with regard to a petition dated April 19, 2010, filed by Congressman Paul W. Hodes, U.S. House of Representatives, hereinafter referred to as the “Petitioner.” The petition was supplemented by letters dated May 14 and June 16, 2010. The petition concerns the operation of the Vermont Yankee Nuclear Power Station (Vermont Yankee).

The petition requested that the Nuclear Regulatory Commission (NRC) not allow Vermont Yankee, operated by Entergy Nuclear Operations, Inc. (Entergy or the licensee), to restart in May 2010, after its scheduled refueling outage, until the completion of all environmental remediation work and relevant reports on leaking tritium at the plant. Specifically, the petition asked the NRC to prevent Vermont Yankee from resuming power production until the following efforts have been completed to the Commission's satisfaction: (1) The tritiated groundwater remediation process; (2) the soil remediation process scheduled to take place during the refueling outage, to remove soil containing tritium and radioactive isotopes of cesium, manganese, zinc, and cobalt; (3) Entergy's root cause analysis; and (4) the Commission's review of the documents presented by Entergy as a result of the Commission's demand for information imposed on the licensee on March 1, 2010.

The petition raises concerns originating from the licensee's report to the NRC on January 7, 2010, that water samples taken from a monitoring well on site at Vermont Yankee showed tritium levels above background. Tritium is another name for the radioactive nuclide hydrogen-3. Tritium occurs naturally in the environment because of cosmic ray interactions and is also produced by nuclear reactor operations. Tritium is chemically identical to normal hydrogen (hydrogen-1), and like normal hydrogen tends to combine with oxygen to form water, which is referred to as tritiated water. The detection of tritiated water in the monitoring well indicated there was abnormal leakage from the nuclear plant. The licensee later identified a leak from underground pipe in the Advanced Off-Gas system as the source of the leak.

This petition was assigned to the NRC's Office of Nuclear Reactor Regulation (NRR) for review. NRR's Petition Review Board (PRB) met on May 3, 2010, and made an initial recommendation to accept this petition for review. The NRC communicated this decision to the Petitioner's staff, who told the PRB that the Petitioner did not desire to address the PRB. The PRB's final recommendation was to accept the petition for review. By letter dated May 20, 2010, Agencywide Documents Access and Management System (ADAMS) Accession No. ML101310049, the NRC informed the Petitioner of the PRB's recommendation and also stated that the NRC did not find cause to prohibit the restart of Vermont Yankee.

The NRC sent a copy of the proposed Director's Decision to the Petitioner for comment on November 18, 2010, and to the licensee for comment on November 29, 2010. The Petitioner did not provide any comments and the licensee provided minor comments. The licensee's comments have been addressed in the Director's Decision.

The NRR staff has determined that the activities requested by the Petitioner have been completed, with the exception of preventing the restart of Vermont Yankee. Therefore, the Director of NRR concludes that the petition has been granted in part and denied in part. The reasons for this decision are explained in the Director's Decision (DD-11-01) pursuant to Title 10 of the Code of Federal Regulations (10 CFR) 2.206, “Requests for action under this subpart.”

Copies of the petition, ADAMS Accession No. ML101120663, and the Director's Decision, ADAMS Accession No. ML110060072, are available for inspection at the Commission's Public Document Room (PDR) at One White Flint North, Public File Area O1 F21, 11555 Rockville Pike (first floor), Rockville, Maryland, and from the NRC's ADAMS Public Electronic Reading Room on the NRC Web site at http://www.nrc.gov/reading-rm/adams.html. The supplemental letters are under ADAMS Accession Nos. ML101370031 and ML101720485. NRC Management Directive 8.11, “Review Process for 10 CFR 2.206 Petitions,” ADAMS Accession No. ML041770328, describes the petition review process. Persons who do not have access to ADAMS or who have problems in accessing the documents in ADAMS should contact the NRC PDR reference staff by telephone at 1-800-397-4209 or 301-415-4737, or by e-mail to pdr@nrc.gov.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

Dated at Rockville, Maryland, this 27th day of January 2011.
For the Nuclear Regulatory Commission.
Eric J. Leeds,
Director, Office of Nuclear Reactor Regulation.

[FR Doc. 2011-3026 Filed 2-9-11; 8:45 am]

BILLING CODE 7590-01-P